DEPARTMENT OF AGRICULTURE

Submission for OMB Review; Comment Request

November 4, 2013.

The Department of Agriculture will submit the following information collection requirement(s) to OMB for review and clearance under the Paperwork Reduction Act of 1995, Public Law 104-13 on or after the date of publication of this notice. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), New Executive Office Building, Washington, DC; New Executive Office Building, 725 17th Street NW., Washington, DC 20503. Commenters are encouraged to submit their comments to OMB via email to: OIRA_Submission@omb.eop.gov or fax (202) 395-5806 and to Departmental Clearance Office, USDA, OCIO, Mail Stop 7602, Washington, DC 20250-7602.

Comments regarding these information collections are best assured of having their full effect if received by December 9, 2013. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Agricultural Marketing Service

Title: USDA Food Connect Web site.

OMB Control Number: 0581-0224.

Summary of Collection: The USDA Food Connect Web site (previously known as the USDA Food and Commodity Connection Web site) operates pursuant to the authority of Section 32 of Public Law 320, Section 8 of the Child Nutrition Act of 1966 (42 U.S.C. 1777) and the National School Lunch Program, 7 CFR part 210. It was developed to assist the institutional food service community across the United States. The Web site focuses on providing information to institutional food service professions, as well as providing a platform for processors and brokers to post information about their processed USDA supplied commodities and other commercial food products available for institutional food service purchase. The USDA Food Connect Web site provides food related associations a location to provide information on services and materials available from the organization. The Web site is a public Web site and the information provided is considered as public information.

Need and Use of the Information: The USDA Food Connect Web site will collect all information electronically at one time upon registration. Each new user must create their individual login and password. There are four primary types of users; institutional food service professionals, processors, brokers and food related associations. The Food Connect Web site is designed as a central location in which institutional food service professionals, who provide meals in institutional settings, can locate processors who manufacture foods utilizing USDA provided commodities, brokers who represent the processors, and food related associations. No information is collected from a user when they access the Web site as a guest.

Description of Respondents: Business or other for-profit; Farms; State, Local & Tribal governments.

Number of Respondents: 1,215.

Frequency of Responses: Reporting: Other (One Time).

Total Burden Hours: 297.

Charlene Parker,
Departmental Information Collection Clearance Officer.

[FR Doc. 2013-26793 Filed 11-7-13; 8:45 am]

BILLING CODE 3410-02-P